DEPARTMENT OF ENERGY

Federal Energy Regulatory Commission

[Docket No. CP02-384-000]

Puget Sound Energy, Inc.; Notice of Request Under Blanket Authorization

June 18, 2002.

Take notice that on June 10, 2002, Puget Sound Energy, Inc. (Puget), One Bellevue Center Building, 411 108th Avenue, NE., Bellevue, Washington 98004-5515, filed in Docket No. CP02-384-000 a request pursuant to Sections 157.205 and 157.214 of the Commission's Regulations under the Natural Gas Act (18 CFR 157.205 and 157.214) for authorization to increase the certificated maximum storage capacity, cushion gas inventory and maximum working gas quantity at the Jackson Prairie Storage Project (Jackson Prairie), in Lewis County, Washington, under Puget's blanket certificate issued in Docket No. CP97-27-000 pursuant to section 7 of the Natural Gas Act, all as more fully set forth in the request which is on file with the Commission and open to public inspection. This filing may be viewed on the web at http://www.ferc.gov using the “RIMS” link, select “Docket #” from the RIMS Menu and follow the instructions (please call 202-208-2222 for assistance).

Puget proposes to implement a phased water withdrawal/gas injection program during the 2002-2008 period that is designed to increase the maximum certificated storage capacity at Jackson Prairie from 39.4 Bcf to 47.8 Bcf, the certificated cushion gas inventory from 19.0 Bcf to 23.2 Bcf and the maximum certificated working gas quantity from 18.3 Bcf to 24.6 Bcf. Puget states that its proposal does not request any change in the currently authorized maximum storage pressures. In addition, Puget states that its proposal does not involve the construction of any additional facilities, since existing water withdrawal facilities and gas injection facilities will be used to expand the Jackson Prairie Zone 2 reservoir.

Puget, Arista Corporation and Northwest Pipeline Corporation jointly own equal undivided one-third shares of Jackson Prairie and will have the right, but not the obligation, to participate equally in development of the proposed expansion capacity. Puget states that each owner will make an annual election concerning its participation in the subsequent year's expansion water withdrawal/gas injection cycle.

The requested expansion is based on Puget's analysis that the reservoir capacity can be safely increased to accommodate the three owners' needs for additional storage in the Pacific Northwest.

Any questions regarding the prior notice request should be directed to Gary K. Otter, Manager, PO. Box 58900, Salt Lake City, Utah 84158, at (801) 584-7117.

Any person or the Commission's staff may, within 45 days after issuance of the instant notice by the Commission, file pursuant to Rule 214 of the Commission's Procedural Rules (18 CFR 385.214) a motion to intervene or notice of intervention and pursuant to section 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to section 7 of the Natural Gas Act. Comments, protests and interventions may be filed electronically via the internet in lieu of paper. See, 18 CFR 385.2001(a)(1)(iii) and the instructions on the Commission's web site under the “e-Filing” link.

Linwood A. Watson, Jr.,
Deputy Secretary.

[FR Doc. 02-15923 Filed 6-24-02; 8:45 am]

BILLING CODE 6717-01-P